DEPARTMENT OF AGRICULTURE

Submission for OMB Review; Comment Request

November 2, 2000.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Agricultural Marketing Service

Title: Marketing Order Regulations the Handling of Spearmint Oil Produced in the Far West, MO 985.

OMB Control Number: 0581-0065.

Summary of Collection: The marketing order programs provide an opportunity for producers of fresh fruits, vegetables and specialty crops, in a specified production area to work together to solve marketing problems that cannot be solved individually. The Far West spearmint marketing order regulates the handling of spearmint oil produced in the Washington, Idaho, Oregon, and designated parts of Nevada and Utah. The order authorizes the issuance of allotment provisions for producers and regulates the quantities of spearmint oil handled and has the authority for research and development. Under the Agriculture Marketing Agreement Act of 1937, as amended (7 U.S.C. 601-674), industries enter into marketing order programs. Agricultural Marketing Service (AMS) may act as the Secretary's agent to oversee the order operations and issue regulations recommended by a committee of representatives from each commodity industry.

Need and Use of the Information: The Committee has the authorization to require producers, handlers, and processors submit certain information as provided by the order, rules and regulations. Various forms relating to spearmint supplies, shipments, and dispositions, and used and required to effectively carry out the purpose of the Act and order. The committee periodically reviews reports and forms to ensure that they are understandable, easy to fill out, and only the minimum of information necessary is reported. The information collected is used by authorized representatives of USDA, including AMS, Fruit and Vegetable Programs' regional and headquarters staff, and employees of the Committee. Timing and frequency of the various reports has evolved to meet the needs of the industry and minimize the burden on the reporting public. Collecting data less frequently would eliminate data needed to keep the spearmint oil industry and the Secretary abreast of changes at the state and local level.

Description of Respondents: Business of other for-profit; Farms, Federal Government, State, Local or Tribal Government.

Number of Respondents: 217.

Frequency of Responses: Recordkeeping; Reporting: On occasion; Annual; Biennially.

Total Burden Hours: 162.

Farm Service Agency

Title: 7 CFR 1941-A, Operating Loan Policies, procedures and Authorizations.

OMB Control Number: 0560-0162.

Summary of Collection: The Consolidated Farm and Rural Development Act (7 U.S.C. 1941) (CONACT) authorizes the Secretary of Agricultural and Farm Service Agency (FSA) to make and ensure loans to farmers and ranchers and to administer the provision of the CONACT applicable to the Farm Loan Program. The information is require to ensure that the agency provides assistance to applicants who have reasonable prospectus of repaying the government and meet statutory eligibility requirements. This assistance enables family farm operators to use their land, labor, and other resources and to improve their living and financial conditions so that they can eventually obtain credit elsewhere.

Need and Use of the Information: The information is needed for FSA loan approval officials to evaluate an applicant's eligibility, and to determine if the operation is economically feasible and the security offered in support of the loan is adequate. FSA relies on current information to carry out the business of the program as intended and to protect the government's interest. A variety of forms will be used to collect the information. If the information were not collected, or collected less frequently, the Agency would be: (1) Unable to make an accurate eligibility and financial feasibility determination on respondent's request for new loans as required by the CONTACT; and (2) unable to meet the Congressionally mandated mission of loan program.

Description of Respondents: Farms; Business or other for-profit; Federal Government; Individuals or households.

Number of Respondents: 49,492.

Frequency of Responses: Reporting; Other: As needed.

Total Burden Hours: 6,014.

Farm Service Agency

Title: Loan Deficiency Payments.

OMB Control Number: 0560-0129.

Summary of Collection: The Federal Agriculture Improvement and Reform Act of 1996 provide authorization for loan deficiency payments that are implemented by the following regulations (1) 7 CFR Part 147, for upland cotton loan deficiency payments; (2) 7 CFR Part 1421 for rice, oilseeds, wheat, and feed grain loan deficiency payments; (3) 7 CFR Part 1425 for Commodity Credit Corporation (CCC) approved cooperative marketing associations. The Farm Service Agency (FSA), administers the marketing assistance loan and loan deficiency payment programs. Loan deficiency payment provisions are intended to reduce quantities of loan collateral delivered to CCC and are made available when the loan rate for the commodity is greater than the announced repayment rate or world market price.

Need and Use of the Information: County FSA Committees are responsible for approving and disapproving loan deficiency payment requests. Producers provide the necessary information applicable to the request and must meet certain eligibility requirements in accordance with the regulations. Potential applicants may use the approved OMB forms for FSA that will be posted on Internet Forms Website along with instructions for completing the forms. The information collected is needed to determine loan deficiency payment quantities and payment amounts, verify producer and commodity eligibility, and to ensure that only eligible producers receive loan deficiency payments. If the data were collected less frequently, the statutes could not be implemented as authorized.

Description of Respondents: Farm; Business or other for-profit; Individuals or households.

Number of Respondents: 2,035,000.

Frequency of Responses: Reporting: Other (per request).

Total Burden Hours: 3,825,000.

Farm Service Agency

Title: Certified Mediation Program.

OMB Control Number: 0560-0165.

Summary of Collection: The Farm Service Agency (FSA) is amending its Agricultural Loan Mediation (AMP) regulations to implement the requirements of the Federal Crop Insurance Reform and Department of Agriculture Reorganization Act of 1994 (the 1994 Act). P.L. 103-354, October 13, 1994, amended Section 501 of the Agricultural Credit Act of 1987 (7 U.S.C. 5101) by striking “an agricultural loan mediation program” and inserting “a mediation program”. The regulation provides a mechanism to States to apply for and obtain matching funds grants from USDA. The grant funds help States supplement administrative operating funds needed to administer their agricultural mediation programs. FSA will collect information by mail, phone, fax, and in person.

Need and Use of the Information: FSA will collect information to ensure matching grant funds are used only to pay for eligible costs necessary for the operation and administration of the State mediation programs, consistent with the the statutory purposes of the program. If information were not collected, this would result in improper administration and appropriation of Federal grant funds.

Description of Respondents: State, Local or Tribal Government.

Number of Respondents: 25.

Frequency of Responses: Recordkeeping; Reporting: Annually.

Total Burden Hours: 775.

Foreign Agricultural Service

Title: Foreign Donation of Agricultural Commodities.

OMB Control Number: 0551-0035.

Summary of Collection: The Federal Agriculture Improvement and Reform Act of 1996, Section 416(b) of the Agriculture Act of 1949, and the Food for Progress Act of 1985 require reporting on food aid programs. The Department of Agriculture programs provide American food assistance to needy people overseas. Assistance may be provided through U.S. Private Voluntary Organizations, agricultural trade organizations, cooperatives, eligible foreign governments, intergovernments organizations, and private entities. The Cooperating Sponsors who elect to participate in food aid programs are required to submit a plan of operation and initial budget to receive approval. Once approval, the Foreign Agricultural Service (FAS) enters into an agreement with the Cooperating Sponsor. Cooperating Sponsors may submit information to FAS in hard copy, electronically (on diskette or through the Internet), or via fax.

Need and Use of the Information: FAS will collect information to determine whether the Cooperating Sponsor has complied with the agreement and to assess the value of the programs. The information allows FAS to make a determination whether future programming should be implemented with Cooperating Sponsors. If the information were not collected it would be more difficult to determine the accountability and compliance of the Cooperating Sponsors.

Description of Respondents: Not for-profit institutions; Business or other for-profit.

Number of Respondents: 241.

Frequency of Responses: Recordkeeping; Reporting: Semi-annually.

Total Burden Hours: 38,827.

Rural Housing Service

Title: Farm Labor Housing Technical Assistance Grants.

OMB Control Number: 0575-0181.

Summary of Collection: The Housing Act of 1949 gives the Rural Housing Service (RHS) the authority to make loans for the construction of farm labor housing (Section 514) and the authority to provide financial assistance (grants) to eligible private and public nonprofit agencies (Section 516). RHS will award three grants one from each geographic region, Eastern, Central and Western Regions. Eligibility for grants is limited to private and pubic nonprofit agencies. These grants will be awarded based on the qualifications of the applicants and their formal application.

Need and Use of the Information: RHS staff in the National Office and Rural Development field offices will collect information from applicants and grant recipients to determine their eligibility for a grant, project feasibility, to select grant proposals for funding, and to monitor performance after grants have been awarded. The Three respondents, who are awarded grants, are required to provide RHS with quarterly performance reports throughout the 3-year grant period. The respondents are not required to retain records for more than three years. Failure to collect this information could result in the improper use of Federal funds; difficulties in determining eligibility and selections of qualified applicants; and monitoring performance during the grant period.

Description of Respondents: Not-for-profit institutions; State, Local, and Tribal Government.

Number of Respondents: 12.

Frequency of Responses: Recordkeeping; Reporting: Annually and Quarterly.

Total Burden Hours: 303.

National Agricultural Statistics Service

Title: Supplemental Qualifications Statement.

OMB Control Number: 0535-0209.

Summary of Collection: The Department of Agriculture has an Interagency Agreement with the Office of Personnel which provides the National Agricultural Statistics Service (NASS) with the authority to examine, rate, and certify applications for agricultural statistician positions. Accordingly, in addition to resumes, curriculum vitae, and the standard Optional Application for Federal Employment, NASS has created a Supplemental Qualifications Statement (SQS) for agricultural statistician and mathematical statistician positions. The SQS allows applicants the opportunity to describe their achievements or accomplishments as they relate to the required knowledge, skills, and abilities.

Need and Use of the Information: The SQS provides applicants with information related to how they will be measured for a position and what kinds of information will be used to evaluate those abilities. NASS personnel specialist will use the information on the SQS to evaluate and rate the applicant's accomplishments or achievements. Ultimately, the information is used by the selecting official as one of the criteria in the selection process.

Description of Respondents: Individuals or households.

Number of Respondents: 50.

Frequency of Responses: Reporting: On occasion.

Total Burden Hours: 150.

Farm Service Agency

Title: Facsimile Signature Authorization and Verification.

OMB Control Number: 0560-0203.

Summary of Collection: U.S. Department of Agriculture (USDA), Farm Service Agency (FSA) is seeking alternative service delivery processed that will reduce the necessity for USDA Service Center customers to travel to a Service Center to provide information and sign documents. One of the alternatives being implemented is to accept information provided via telefacsimile. Each of the USDA Service Center agencies (Farm Service Agency, Natural Resources Conservation Service, and Rural Development Agencies) will share the signature on the FSA-237 (Facsimile Signature Authorization and Verification) forms to eliminate redundant collection of the same data. FSA will collect information using form FSA-237.

Need and Use of the Information: FSA will collect the name and signature and identification number from Service Center customers. The information collected will be used to verify the authenticity of signatures on documents provided to USDA service centers via telefacsimile. Failure to collect and maintain the original signature will limit USDA's ability to offer the telefacsimile alternative to its Service Center customers.

Description of Respondents: Farms; Individuals or households.

Number of Respondents: 866,089.

Frequency of Responses: Reporting: Other (once).

Total Burden Hours: 17,322.

Rural Development Services

Title: 7 CFR 1956-B, Debt Settlement—Farm Programs and Multiple Family Housing.

OMB Control Number: 0575-0118.

Summary of Collection: The Farm Service Agency's Farm Loan Program provides supervised credit in the form of loans to family farmers and ranchers to purchase land and finance agricultural production. The Rural Housing Service (RHS) provides supervised credit in the form of Multi-Family Housing (Housing Act of 1949) loans to provide eligible persons with economically designed and constructed rental or cooperative housing and related facilities suited to the living requirements. This regulation defines the requirements for debt settlement and the factors the agency considers in approving or rejecting the offer submitted by the borrowers.

Need and Use of the Information: The information submitted by the borrowers is used to determine if acceptance of the settlement offers on debts owed is in the best interest of the Government. If the information were not collected, outdated and inaccurate information would cause increased losses to the government.

Description of Respondents: Farms; Individuals or households; Business or other for-profit; State, Local, or Tribal Government.

Number of Respondents: 2,900.

Frequency of Responses: Reporting: On occasion.

Total Burden Hours: 24,650.

Rural Utilities Service

Title: 7 CFR 1792, Subpart C—Seismic Safety of New Building Construction.

OMB Control Number: 0572-0099.

Summary of Collection: Seismic hazards present a serious threat to people and their surroundings. These hazards exist in most of the United States, not just on the West Coast. Unlike hurricanes, times and location of earthquake cannot be predicted. Most earthquake strike without warning and, if of substantial strength, strike with great destructive forces. To reduce risks to life and property from earthquake, Congress enacted the Earthquake Hazards Reduction Act of 1977 (Public Law 95-124, 42 U.S.C. 7701 et seq.) and directed the establishment and maintenance of an effective earthquake reduction program. As a result, the National Earthquake Hazards Reduction Program (NEHRP) was established. The objectives of the NEHRP include the development of technologically and economically feasible design and construction methods to make both new and existing structures earthquake resistant, and the development and promotion of model building codes. 7 CFR part 1792, subpart C, identifies acceptable seismic standards which must be employed in new building construction funded by loans, grants, or guarantees made by the Rural Utilities Service (RUS) or the Rural Telephone Bank (RTB) or through lien accommodations or subordinations approved by RUS or RTB.

Need and Use of the Information: RUS will collect information on the project designation and owners' name; name of architectural/engineering firm; name and registration number (for the State in which the building project is located) of the certifying architect or engineer; purpose and location of the facility; seismic factor for the building location; the code identity and date of the model code used for the design and construction of the building project(s); total square footage of the building project; total cost of the building project; and estimated cost of the structural systems affected by the requirements of 7 CFR part 1792, Subpart C.

Description of Respondents: Business or other for-profit.

Number of Respondents: 1,000.

Frequency of Responses: Reporting: On occasion.

Total Burden Hours: 525.

Nancy B. Sternberg,
Departmental Clearance Officer.

[FR Doc. 00-28542 Filed 11-6-00; 8:45 am]

BILLING CODE 3410-01-M